DEPARTMENT OF COMMERCE

National Oceanic and Atmospheric Administration

[I.D. 013105A]

U.S. Climate Change Science Program Synthesis and Assessment Product Prospectuses

AGENCY: National Oceanic and Atmospheric Administration (NOAA), Department of Commerce.

ACTION: Notice of availability and request for public comments.

SUMMARY: The National Oceanic and Atmospheric Administration publishes this notice to announce the availability of draft Prospectuses for three of the U.S. Climate Change Science Program (CCSP) Synthesis and Assessment Products (Products) for public comment. These draft Prospectuses address the following CCSP Topics:

Product 2.1 Scenarios of Greenhouse Gas Emissions and Atmospheric Concentrations and Review of Integrated Scenario Development and Application;

Product 2.2 North American Carbon Budget and Implications for the Global Carbon Cycle; and

Product 3.1 Climate Models and Their Uses and Limitations: Climate Sensitivity, Feedbacks, and Uncertainties.

After consideration of comments received on the draft Prospectuses, the final Prospectuses along with the comments received will be published on the CCSP web site.

DATES: Comments must be received by March 7, 2005.

ADDRESSES: The draft Prospectuses are posted on the CCSP Program Office web site. The web addresses to access the draft Prospectuses are:

Product 2.1 (emissions scenarios):

www.climatescience.gov/Library/sap/sap2-1/sap2-1prospectus-draft.htm

Product 2.2 (North American carbon budget):

www.climatescience.gov/Library/sap/sap2-2/sap2-2prospectus-draft.htm

Product 3.1 (climate models):

www.climatescience.gov/Library/sap/sap3-1/sap3-1prospectus-draft.htm.

Detailed instructions for making comments on the draft Prospectuses are provided with each Prospectus. Comments should be prepared in accordance with these instructions.

FOR FURTHER INFORMATION CONTACT: Richard H. Moss, Ph.D., Director, Climate Change Science Program Office (202) 419-3476.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. The Prospectuses addressed by this notice provide a topical overview and describe plans for scoping, drafting, reviewing, producing, and disseminating three of 21 final synthesis and assessment Products that will be produced by the CCSP.

Dated: January 31, 2005.
James R. Mahoney,
Assistant Secretary of Commerce for Oceans and Atmosphere, Director, Climate Change Science Program.

[FR Doc. 05-2194 Filed 2-3-05; 8:45 am]

BILLING CODE 3510-12-S